DEPARTMENT OF THE INTERIOR

Bureau of Land Management

[LLMTL01000-L161000000.PN0000-223; MO #4500161643; MTM-89170-02]

Notice of Proposed Withdrawal and Public Meeting; Montana

Correction

In notice document 2022-12103 beginning on page 34289 in the issue of Monday, June 6, 2022, make the following correction:

On page 34290, in the first column, in the sixth paragraph, starting on the first line “For a period until June 6, 2024 including location and entry under the United States mining laws, but not from leasing under the mineral leasing and mineral materials disposal laws, subject to valid existing rights, unless the application is denied or canceled, or the withdrawal is approved prior to that date.” should read “For a period until June 6, 2024, the public lands described earlier will be segregated from all forms of appropriation under the public land laws, including location and entry under the United States mining laws, but not from leasing under the mineral leasing and mineral materials disposal laws, subject to valid existing rights, unless the application is denied or canceled, or the withdrawal is approved prior to that date.”

[FR Doc. C1-2022-12103 Filed 6-10-22; 8:45 am]

BILLING CODE 1505-01-D